DEPARTMENT OF THE INTERIOR

Fish and Wildlife Service

Notice of Intent To Prepare a Comprehensive Conservation Plan and Associated Environmental Assessment for Howland Island, Baker Island, and Jarvis Island National Wildlife Refuges

AGENCY: Fish and Wildlife Service, Interior.

ACTION: Notice of Intent.

SUMMARY: The U.S. Fish and Wildlife Service (Service) is gathering information necessary to prepare Comprehensive Conservation Plans (CCP) and associated environmental documentation for Howland Island National Wildlife Refuge (NWR), Baker Island NWR, and Jarvis Island NWR (refuges, collectively). These refuges are unincorporated insular areas, or U.S. territories, located near the equator in the Pacific Ocean, approximately 1,300 to 1,600 miles south to southwest of Honolulu, Hawaii, and are administered as units of the National Wildlife Refuge System. The Service is publishing this notice in compliance with the National Wildlife Refuge System Administration Act of 1966, as amended (16 U.S.C. 668dd et seq.) and the National Environmental Policy Act (NEPA) and implementing regulations for the following purposes: (1) To advise the public and other agencies of this effort; (2) to obtain public comments, suggestions, and information on the issues to be addressed in the CCP; and (3) to determine interest from public and other agencies in attending public scoping meetings. Special mailings, newspaper articles, and other media announcements will be used to inform the public and foreign, State, and local government agencies of the opportunities for input throughout the planning process.

DATES: Please provide written comments by October 14, 2005.

ADDRESSES: Address comments, requests for more information, or requests to be added to the mailing list for this project to: Charles Pelizza, Refuge Conservation Planner, Pacific and Remote Islands National Wildlife Refuge Complex, 300 Ala Moana Blvd., Room 5-231, Honolulu, HI 96850.

FOR FURTHER INFORMATION CONTACT: Charles Pelizza, Refuge Conservation Planner, (808) 792-9490, or visit the following Service Web sites:

(1) http://pacific.fws.gov/planning.

(2) http://www.fws.gov/pacific/pacificislands/wnwr/pbakernwr.html.

SUPPLEMENTARY INFORMATION: Howland Island NWR, Baker Island NWR, and Jarvis Island NWR, established in 1974, collectively contain the following habitats: Approximately 1,946 acres of emergent island, and 101,806 acres of coral reefs, submerged lands, and associated waters. Howland Island and Baker Island are part of the Phoenix Islands and Jarvis Island is part of the Line Island archipelago. These island refuges and their coral reefs provide habitat for thousands of nesting seabirds, endemic coral reef fish, giant clams, sea turtles, marine mammals, and other endangered species. With the exception of brief research and management visits, the refuges are closed to public visitation to: protect their fragile ecosystems from invasion by exotic species; and provide nesting habitat for seabirds that is free of predators and excessive human disturbance.

By Federal law, all lands within the National Wildlife Refuge System are to be managed in accordance with an approved CCP. The purpose of a CCP is to develop a vision for a refuge and provide management guidance for maintenance, restoration, and use of refuge resources during the next 15 years. During the planning process, the Service will consider many elements including wildlife and habitat management, public recreational activities, and cultural resource protection. The comments and suggestions from the public on how the refuges should be managed will be considered during the development of the CCP.

Several preliminary issues have been identified and will be addressed in the CCP. These issues include: continued cooperation and communication with a growing list of partners and cooperators in planning and implementing refuge management activities; evaluating recreational opportunities; increasing opportunities to monitor and collect adequate baseline biological information such as wildlife populations or the presence of invasive species; and improving recognition by the public and other agencies regarding refuge boundaries, mandates, and management activities. Additional issues will be identified during public scoping.

CCP Process: Public Comment Opportunities

With the publication of this notice, the public is encouraged to submit written comments. Public comments received will be used by the Service to identify issues to be considered in preliminary alternatives. As the CCP process progresses, two more public comment periods will be announced and occur as follows: when the preliminary alternatives are developed and released for public review and comments; and when the alternatives are then refined and analyzed in a draft CCP/NEPA document which is also released for public review and comments. All comments received become part of the public record and may be released. Comments already submitted are on record and need not be resubmitted.

Dated: September 6, 2005.
David J. Wesley,
Regional Director, Region 1, Portland, Oregon.

[FR Doc. 05-18206 Filed 9-13-05; 8:45 am]

BILLING CODE 4310-55-P